DEPARTMENT OF HOMELAND SECURITY

National Communications System

National Security Telecommunications Advisory Committee

AGENCY: National Communications System (NCS).

ACTION: Notice of closed meeting.

SUMMARY: The 27th meeting of the President's National Security Telecommunications Advisory Committee (NSTAC) will be held on Tuesday, May 18 and Wednesday, May 19, 2004, from 9 a.m. to 4 p.m. The NSTAC is subject to the Federal Advisory Committee Act (FACA), Pub. L. 92-463, as amended (5 U.S.C. App. II.) The meeting will be closed to the public to allow for discussion of:

• Cyber-Related Vulnerabilities of the Internet.

Since discussion regarding industry member's cyber-related vulnerabilities of the Internet could reveal company proprietary information, it is necessary to close this meeting. Closing this meeting is consistent with 5 U.S.C. 552b(c)(4).

FOR FURTHER INFORMATION CONTACT: Call Ms. Kiesha Gebreyes, (703) 607-6134, or write the Manager, National Communications System, 701 South Court House Road, Arlington, Virginia 22204-2198.

Peter M. Fonash,
Federal Register Certifying Officer, National Communications System.

[FR Doc. 04-8700 Filed 4-15-04; 8:45 am]

BILLING CODE 4410-10-M